DEPARTMENT OF TRANSPORTATION

Surface Transportation Board

[STB Ex Parte No. 290 (Sub-No. 5) (2007-1)]

Quarterly Rail Cost Adjustment Factor

AGENCY: Surface Transportation Board, DOT.

ACTION: Approval of rail cost adjustment factor.

SUMMARY: The Board has approved the first quarter 2007 rail cost adjustment factor (RCAF) and cost index filed by the Association of American Railroads. The first quarter 2007 RCAF (Unadjusted) is 1.208. The first quarter 2007 RCAF (Adjusted) is 0.568. The first quarter 2007 RCAF-5 is 0.540.

DATES: Effective Date: January 1, 2007.

FOR FURTHER INFORMATION CONTACT: Mac Frampton, (202) 565-1541. [Federal Information Relay Service (FIRS) for the hearing impaired: 1-800-877-8339.]

SUPPLEMENTARY INFORMATION: Additional information is contained in the Board's decision, which is available on our Web site http://www.stb.dot.gov. To purchase a copy of the full decision, write to, e-mail or call the Board's contractor, ASAP Document Solutions; 9332 Annapolis Rd., Suite 103, Lanham, MD 20706; e-mail asapdc@verizon.net; phone (202) 306-4004. [Assistance for the hearing impaired is available through FIRS: 1-800-877-8339.]

This action will not significantly affect either the quality of the human environment or energy conservation.

Pursuant to 5 U.S.C. 605(b), we conclude that our action will not have a significant economic impact on a substantial number of small entities within the meaning of the Regulatory Flexibility Act.

Decided: December 15, 2006.
By the Board, Chairman Nottingham, Vice Chairman Mulvey, and Commissioner Buttrey.
Vernon A. Williams,
Secretary.

[FR Doc. E6-21947 Filed 12-21-06; 8:45 am]

BILLING CODE 4915-01-P